DEPARTMENT OF JUSTICE

[OMB Number 1110-0043]

Agency Information Collection Activities; Proposed eCollection eComments Requested; Voluntary Appeal File (VAF) Application Form

AGENCY: Criminal Justice Information Services Division, Federal Bureau of Investigation, Department of Justice.

ACTION: 30-Day notice.

SUMMARY: The Criminal Justice Information Services Division, Federal Bureau of Investigation, Department of Justice (DOJ), will be submitting the following information collection request to the Office of Management and Budget (OMB) for review and approval in accordance with the Paperwork Reduction Act of 1995.

DATES: Comments are encouraged and will be accepted for 30 days until December 22, 2025.

FOR FURTHER INFORMATION CONTACT: If you have comments especially on the estimated public burden or associated response time, suggestions, or need a copy of the proposed information collection instrument with instructions or additional information, please contact: Jill Montgomery, FBI NICS Section, 1000 Custer Hollow Road, Clarksburg, WV 26306, jamontgomery@fbi.gov or 304-709-1476.

SUPPLEMENTARY INFORMATION: The proposed information collection was previously published in the Federal Register on September 17, 2025, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including using appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1110-0043. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Abstract: If a potential purchaser is delayed or denied a firearm and successfully appeals the decision, the NICS Section cannot retain a record of the overturned appeal or the supporting documentation. If the record is not able to be updated or the appeal was overturned because fingerprint submissions determined the prohibiting record did not match the, the purchaser may continue to be delayed or denied for future transactions, and if that individual appeals the decision, the documentation/information (e.g., fingerprint cards, court records, pardons, etc.) must be resubmitted for every subsequent appeal. The VAF was established per 28 CFR, Part 25.10(g), for this reason. By this process, applicants can voluntarily request the NICS Section maintain information about themselves in the VAF to prevent future extended delays or denials of a firearm transfer. Those approved for entry into the VAF will be issued a unique personal identification number or “UPIN”. The applicant must then provide their VAF UPIN to the FFL during future NICS checks. The VAF UPIN can also prevent similar results in other contexts where the NICS may be queried, such as when applying to receive a National Firearms Act firearm (see 28 CFR 25.6(j)(2)) or soon, during a “firearm handler background check” (see 89 FR 100424). The VAF is also open to persons that have never been the subject of a NICS check to preemptively prevent erroneous denials or extended delays.

Overview of This Information Collection

1. Type of Information Collection: Revision of a previously approved collection.

2. Title of the Form/Collection: Voluntary Appeal File (VAF) Application Form.

3. Agency form number, if any, and the applicable component of the Department of Justice sponsoring the collection: Voluntary Appeal File (VAF) Application Form, 1110-0043. The applicable component within the Department of Justice is the Federal Bureau of Investigation, Criminal Justice Information Services Division.

4. Affected public who will be asked or required to respond, as well as a brief abstract:

Affected Public: Individuals. By this process, applicants can voluntarily request the NICS Section maintain information about themselves in the VAF to prevent future extended delays or denials of a firearm transfer. Those approved for entry into the VAF will be issued a unique personal identification number or “UPIN”. The applicant must then provide their VAF UPIN to the FFL during future NICS checks. The VAF is also open to persons that have never been the subject of a NICS check to preemptively prevent erroneous denials or extended delays.

5. Obligation to Respond: Voluntary.

6. Total Estimated Number of Respondents: 11,073 respondents.

7. Estimated Time per Respondent: 30 minutes.

8. Frequency: One time.

9. Total Estimated Annual Time Burden: Ex: 20 hours. With 11,073 applicants (6,542 submitted electronically and 4,531 submitted hard copy) responding, the formula for applicant burden hours would be as follows: 11,073 respondents × .5 hours) = 5,536.50 hours.

10. Total Estimated Annual Other Costs Burden: The VAF application process is performed on average by 54 GS 11 Step 5 Criminal History Challenge Analysts. The 2024 Office of Personnel Management Grade Scale Salary Table (for the locality pay area of rest of US) indicates a GS 11 Step 5 employee makes $82,226 per year. As a standard when calculating cost, thirty-one percent is added for benefits. This brings the annual cost per employee to $107,716.06. Fifty-four employees at this rate would total $5,816,667.24 in salaries.

If additional information is required, contact: Darwin Arceo, Department Clearance Officer, Enterprise Portfolio Management, Justice Management Division, United States Department of Justice, Two Constitution Square, 145 N Street NE, 4W-218 Washington, DC 20530.

Dated: November 17, 2025.
Darwin Arceo,
Department Clearance Officer for PRA, U.S. Department of Justice.

[FR Doc. 2025-20350 Filed 11-19-25; 8:45 am]

BILLING CODE 4410-02-P